DEPARTMENT OF HEALTH AND HUMAN SERVICES

Administration on Children and Families

Notice of Secretary's Advisory Committee Meeting

AGENCY: Administration on Children, Youth and Families, ACF, HHS.

ACTION: Notice of meeting; Advisory Committee on Head Start Accountability and Educational Performance Measures.

SUMMARY: The Secretary of Health and Human Services (HHS), by authority of 42 U.S.C. 9836A; Section 641A(b) of the Head Start Act, as amended, has formed the Advisory Committee on Head Start Accountability and Educational Performance Measures. The Committee is governed by the provisions of the Federal Advisory Committee Act, Public Law 92-463, as amended (5 U.S.C. appendix 2).

The function of this Committee is to help assess HHS' progress in developing and implementing educational measures in the Head Start Program. This includes the Head Start National Reporting System (NRS). The Committee is to provide recommendations for integrating NRS with other ongoing assessments of the effectiveness of the program. The Committee will work in coordination with the existing Technical Work Group (TWG) which helped develop NRS, and make recommendations for how NRS data can be included in the broader Head Start measurement found in the Family and Child Experiences Survey (FACES), the national Head Start Impact Study, Head Start's Performance Based Outcome System, and the going evaluation of the Early Head Start program.

Dates: June 15, 2005, 2 p.m.-5 p.m., dinner recess; June 16, 2005, 9 a.m.-3:30 p.m.

Place: Hyatt Bethesda, One Bethesda Metro Center, Bethesda, Maryland 20814.

Agenda: The Committee will be sworn in and will structure a plan that will enable it to accomplish its mission. Written and oral presentations related to existing Head Start evaluations will be the major parts of the meeting. Time allotted for each invited presentation will be limited.

SUPPLEMENTARY INFORMATION: This, the first meeting of the newly formed Committee, is open to the public. Persons wishing to bring written statements or papers focused on relevant, existing research with Head Start populations or on measures appropriate for low-income four- and five-year-old children are welcome to do so.

Individuals may email such documents to Secretaryadvisory-hs@esi-dc.com or mail to: ESI, ATTN: Xzavier Wright, Head Start Bureau-Secretary Advisory Committee, 7735 Old Georgetown Road, Suite 600, Bethesda, Maryland 20814.

Documents received will be presented to the Committee.

Committee meeting records will be kept at the Switzer Building located at 330 C Street, SW., Washington, DC 20447. The Head Start Bureau will also make material related to this meeting available on the Head Start Web site at http://www2.acf.dhhs.gov/programs/hsb/.

For additional information regarding this meeting, please contact Michele Plutro, Designated Federal Officer, at 202-205-8912.

An interpreter for the deaf and hearing impaired, or any other special needs, will be available upon advance request by contacting xzavier@esi-dc.com.

Dated: May 27, 2005.
Wade F. Horn,
Assistant Secretary for Children and Families.

[FR Doc. 05-11076 Filed 6-1-05; 8:45 am]

BILLING CODE 4184-01-M